DEPARTMENT OF COMMERCE

International Trade Administration; Annual Report From Foreign-Trade Zones

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506 (c)(2)(A)).

DATES: Written comments must be submitted on or before December 13, 2004.

ADDRESSES: Direct all written comments to Diana Hynek, Departmental Paperwork, Clearance Officer, Department of Commerce, Room 6625, 14th & Constitution Avenue, NW., Washington, DC 20230 or via the Internet at dHynek@doc.gov.

FOR FURTHER INFORMATION CONTACT: Request for additional information or copies of the information collection instrument and instructions should be directed to: Foreign-Trade Zones Staff, FCB—Suite 4100W, 1401 Constitution Ave., NW., Washington, DC 20230; Phone Number: (202) 482-2862, and fax number (202) 482-0002.

SUPPLEMENTARY INFORMATION:

I. Abstract

The Foreign-Trade Zone Annual Report is the vehicle by which Foreign Trade Zone (FTZ) grantees report annually to the Foreign Trade Zones Board, pursuant to the requirements of the Foreign Trade Zones Act (19 U.S.C. 81a-81u). The annual reports submitted by grantees are the only complete source of compiled information on FTZ's. The data and information contained in the reports relates to international trade activity in FTZ's. The reports are used by the Congress and the Department to determine the economic effect of the FTZ program. The reports are also used by the FTZ Board and other trade policy officials to determine whether zone activity is consistent with U.S. international trade policy, and whether it is in the public interest. The public uses the information regarding activities carried on in FTZ's to evaluate their effect on industry sectors. The information contained in annual reports also helps zone grantees in their marketing efforts.

II. Method of Collection

FTZ grantees submit annual reports to the Foreign-Trade Zones Board.

III. Data

OMB Number: 0625-0109.

Form Number: ITA-359P.

Type of Review: Regular Submission.

Affected Public: State, local, or tribal governments or not-for-profit institutions which are FTZ grantees.

Estimated Number of Respondents: 160.

Estimated Time Per Response: 38 to 211 hours (depending on the size and structure of the FTZ).

Estimated Total Annual Burden Hours: 14,330.

Estimated Total Annual Costs: The estimated annual cost for this collection is $695,990.00 ($607,350.00 for submitters and $88,640.00 for the federal government).

IV. Request for Comments

Comments are invited on (a) whether the proposed collection of information is necessary for the proper performance of the functions of the agency, including whether the information shall have practical utility; (b) the accuracy of the agency's estimate of the burden (including hours and costs) of the proposed collection information; (c) ways to enhance the quality, utility, and clarity of the information to be collected; (d) ways to minimize the burden of the collection of information on respondents, including through the use of automated collection techniques or forms of information technology.

Comments submitted in response to this notice will be summarized and/or included in the request for OMB approval of this information collection; they also will become a matter of public record.

Dated: October 7, 2004.
Madeleine Clayton,
Management Analyst, Office of the Chief Information Officer.

[FR Doc. 04-23009 Filed 10-13-04; 8:45 am]

BILLING CODE 3510-DS-P